DEPARTMENT OF THE INTERIOR

Bureau of Land Management

[AZ-030-1430-00-2Z; AZA-019168]

Notice of Realty Action Direct (Non-Competitive) Sale of Public Lands in Mohave County, AZ

AGENCY: Bureau of Land Management, Department of Interior.

ACTION: Notice of Realty Action, Direct (Non-Competitive) Sale.

SUMMARY: The following public lands have been found suitable for a direct (non-competitive) sale under Section 203 of the Federal Land Policy and Management Act of 1976 (90 Stat. 2750; 43 U.S.C. 1713), at not less than the estimated fair market value. The land will not be offered for sale for at least 60 days after the date of this notice. The parcel is described as follows:

Gila and Salt River Meridian, Arizona

T. 23 N., R. 13 W.,

Sec. 22, W½NW¼SW¼.

Consisting of 20 acres, including both surface and mineral estate.

SUPPLEMENTARY INFORMATION: The above described land is being offered as a direct (non-competitive sale) in accordance with 43 CFR 2711.3-3 (5) “A need to resolve inadvertent unauthorized use or occupancy of the lands”. The parcel will be sold to the Hualapai Tribe which has been using this area as a cemetery for over 100 years.

The lands described above is hereby segregated from appropriation under the public land laws including the mining laws, pending disposition of this action or 270 days from the date of publication of this notice, whichever occurs first. The conveyance document, when issued, will contain certain reservations to the United States and will be subject to any existing rights-of-way and any other valid existing rights. In accordance with section 7 of the Taylor Grazing Act, 43 U.S.C. 315f, and Executive Order No. 6910, the described land are hereby classified for disposal by sale.

For a period of 60 days from the date of publication of this notice in the Federal Register, interested parties may submit comments to the Field Manager, Kingman Field Office, 2475 Beverly Ave., Kingman, Arizona 86401. In the absence of timely objections, this proposal shall become the final determination of the Department of the Interior.

FOR FURTHER INFORMATION CONTACT: Janna Paronto, Realty Specialist, at (520) 692-4449.

Dated: June 8, 2001.
Brenda H. Smith,
Acting Field Manager, Kingman Field Office.

[FR Doc. 01-19029 Filed 7-30-01; 8:45 am]

BILLING CODE 4310-32-P